DEPARTMENT OF COMMERCE

International Trade Administration

Initiation of Antidumping and Countervailing Duty Administrative Reviews and Request for Revocation in Part, and Deferral of Administrative Review

AGENCY: Import Administration, International Trade Administration, Department of Commerce.

SUMMARY: The Department of Commerce (“the Department”) has received requests to conduct administrative reviews of various antidumping and countervailing duty orders and findings with February anniversary dates. In accordance with the Department's regulations, we are initiating those administrative reviews. The Department received a request to revoke one antidumping duty order in part. The Department also received a request to defer the initiation of an administrative review for one anitdumping duty order.

DATES: Effective Date: March 30, 2012.

FOR FURTHER INFORMATION CONTACT: Brenda E. Waters, Office of AD/CVD Operations, Customs Unit, Import Administration, International Trade Administration, U.S. Department of Commerce, 14th Street and Constitution Avenue NW., Washington, DC 20230, telephone: (202) 482-4735.

SUPPLEMENTARY INFORMATION:

Background

The Department has received timely requests, in accordance with 19 CFR 351.213(b), for administrative reviews of various antidumping and countervailing duty orders and findings with February anniversary dates. With respect to the antidumping duty orders on Certain Frozen Warmwater Shrimp from Brazil, India, and Thailand, the initiation of the antidumping duty administrative review for these cases will be published in a separate initiation notice. The Department received a timely request to revoke in part the antidumping duty order on Certain Frozen Warmwater Shrimp from the People's Republic of China with respect to one exporter. The Department also received a request in accordance with 19 CFR 351.213(c) to defer for one year the initiation of the February 1, 2011, through January 31, 2012, administrative review of the antidumping duty order on Stainless Steel Bar from Japan. The Department received no objections to this request from any party cited in 19 CFR 351.213(c)(1)(ii).

All deadlines for the submission of various types of information, certifications, or comments or actions by the Department discussed below refer to the number of calendar days from the applicable starting time.

Notice of No Sales

If a producer or exporter named in this notice of initiation had no exports, sales, or entries during the period of review (“POR”), it must notify the Department within 60 days of publication of this notice in the Federal Register. All submissions must be filed electronically at http://iaaccess.trade.gov in accordance with 19 CFR 351.303. See Antidumping and Countervailing Duty Proceedings: Electronic Filing Procedures; Administrative Protective Order Procedures, 76 FR 39263 (July 6, 2011). Such submissions are subject to verification in accordance with section 782(i) of the Tariff Act of 1930, as amended (“Act”). Further, in accordance with 19 CFR 351.303(f)(3)(ii), a copy of each request must be served on the petitioner and each exporter or producer specified in the request.

Respondent Selection

In the event the Department limits the number of respondents for individual examination for administrative reviews, the Department intends to select respondents based on U.S. Customs and Border Protection (“CBP”) data for U.S. imports during the POR. We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value Questionnaire for purposes of respondent selection, in general each company must report volume and value data separately for itself. Parties should not include data for any other party, even if they believe they should be treated as a single entity with that other party. If a company was collapsed with another company or companies in the most recently completed segment of this proceeding where the Department considered collapsing that entity, complete quantity and value data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that, with regard to reviews requested on the basis of anniversary months on or after August 2011, the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register notice. In responding to the certification, please follow the “Instructions for Filing the Certification” in the Separate Rate Certification. Separate Rate Certifications are due to the Department no later than 60 calendar days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Status Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceeding (e.g., an ongoing administrative review, new shipper review, etc.) and entities that lost their separate rate in the most recently complete segment of the proceeding in which they participated.

² Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than February 28, 2013. Also, in accordance with 19 CFR 351.213(c) we are deferring for one year the initiation of the February 1, 2011 through January 31, 2012 administrative review of the antidumping duty order on Stainless Steel Bar from Japan (A-588-833) with respect to one exporter.

| Period to be reviewed
Antidumping Duty Proceedings
BRAZIL:
Frozen Warmwater Shrimp,³ A-351-838 | 2/1/11-1/31/12
Stainless Steel Bar, A-351-825 | 2/1/11-1/31/12
Villares Metals S.A.
INDIA:
Certain Preserved Mushrooms, A-533-813 | 2/1/11-1/31/12
Agro Dutch Foods Limited (Agro Dutch Industries Limited)
Himalya International Ltd.
Hindustan Lever Ltd. (formerly Ponds India, Ltd.)
Transchem, Ltd.
Weikfield Foods Pvt. Ltd.
Frozen Warmwater Shrimp,⁴ A-533-840 | 2/1/11-1/31/12
Stainless Steel Bar, A-533-810 | 2/1/11-1/31/12
Ambica Steels Limited Mukand Ltd.
JAPAN: Stainless Steel Bar,⁵ A-588-833 | 2/1/10-1/31/11
Misumi Corporation
REPUBLIC OF KOREA: Certain Cut-to-Length Carbon-Quality Steel Plate, A-580-836 | 2/1/11-1/31/12
Daewood International Corp.
Dongbu Steel Co., Ltd.
Dongkuk Steel Mill Co., Ltd.
GS Global Corp.
Hyundai Steel Co.
Samsung C&T Corp.
TCC Steel Corp.
THAILAND: Frozen Warmwater Shrimp,⁶ A-549-822 | 2/1/11-1/31/12
THE PEOPLE'S REPUBLIC OF CHINA:
Certain Preserved Mushrooms,⁷ A-570-851 | 2/1/11-1/31/12
Ayecue (Liaocheng) Foodstuff Co., Ltd.
Blue Field (Sichuan) Food Industrial Co., Ltd.
China National Cereals, Oils & Foodstuffs Import & Export Corp.
China Processed Food Import & Export Co.
Dujiangyan Xingda Foodstuff Co., Ltd.
Fujian Golden Banyan Foodstuffs Industrial Co., Ltd.
Fujian Pinghe Baofeng Canned Foods
Fujian Yuxing Fruits and Vegetables Foodstuffs Development Co., Ltd.
Fujian Zishan Group Co., Ltd.
Guangxi Eastwing Trading Co., Ltd.
Guangxi Hengyong Industrial & Commercial Dev. Ltd.
Guangxi Jisheng Foods, Inc.
Inter-Foods (Dongshan) Co., Ltd.
Linyi City Kangfa Foodstuff Drinkable Co., Ltd.
Longhai Guangfa Food Co., Ltd.
Primera Harvest (Xiangfan) Co., Ltd.
Shandong Fengyu Edible Fungus Corporation Ltd.
Shandong Jiufa Edible Fungus Corporation, Ltd.
Sun Wave Trading Co., Ltd.
Xiamen Greenland Import & Export Co., Ltd.
Xiamen Gulong Import & Export Co., Ltd.
Xiamen International Trade & Industrial Co., Ltd.
Xiamen Jiahua Import & Export Trading Co., Ltd.
Xiamen Longhuai Import & Export Co., Ltd.
Zhangzhou Gangchang Canned Foods Co., Ltd.
Zhangzhou Golden Banyan Foodstuffs Industrial Co., Ltd.
Zhangzhou Hongda Import & Export Trading Co., Ltd.
Zhangzhou Long Mountain Food Co., Ltd.
Zhangzhou Tongfa Foods Industry Co., Ltd.
Zhejiang Iceman Food Co., Ltd.
Zhejiang Iceman Group Co., Ltd.
Certain Frozen Warmwater Shrimp,⁸ A-570-893 | 2/1/11-1/31/12
Allied Pacific Aquatic Products Zhanjiang Co Ltd
Allied Pacific Food (Dalian) Co., Ltd
Aqua Foods (Qingdao) Co., Ltd.
Asian Seafoods (Zhanjiang) Co., Ltd.
Beihai Evergreen Aquatic Product Science And Technology Co Ltd.
Dalian Hualian Foods Co., Ltd.
Dalian Shanhai Seafood Co., Ltd.
Dalian Taiyang Aquatic Products Co., Ltd.
Dalian Z&H Seafood Co., Ltd.
Fujian Chaohui International Trading
Fujian Dongshan County Shunfa Aquatic Product Co., Ltd.
Fujian Rongjiang Import and Export Corp.
Fuqing Minhua Trade Co., Ltd.
Fuqing Yihua Aquatic Food Co., Ltd.
Fuqing Yiyuan Trading Co., Ltd.
Guangdong Jiahuang Foods Co., Ltd.
Guangdong Jinhang Foods Co., Ltd.
Guangdong Shunxin Sea Fishery Co. Ltd.
Guangdong Wanya Foods Fty. Co., Ltd.
Hai Li Aquatic Co., Ltd.
Hainan Brich Aquatic Products Co., Ltd.
Hainan Hailisheng Food Co., Ltd.
Hainan Xiangtai Fishery Co., Ltd.
Haizhou Aquatic Products Co., Ltd.
Hilltop International
Hua Yang (Dalian) International Transportation Service Co.
Kingston Foods Corporation
Maoming Xinzhou Seafood Co., Ltd.
Ocean Duke Corporation
Olanya (Germany) Ltd.
Qingdao Yuanqiang Foods Co., Ltd.
Rizhao Smart Foods
Rizhao Xinghe Foodstuff Co., Ltd.
Rui'an Huasheng Aquatic Products Processing Factory
Savvy Seafood Inc.
Sea Trade International Inc.
Shandong Meijia Group Co., Ltd.
Shanghai Linghai Fisheries Trading Co. Ltd.
Shanghai Lingpu Aquatic Products Co.
Shanghai Smiling Food Co., Ltd.
Shanghai Zhoulian Foods Co., Ltd.
Shantou Jiazhou Foods Industry
Shantou Jin Cheng Food Co., Ltd.
Shantou Longsheng Aquatic Product Foodstuff Co., Ltd.
Shantou Ruiyuan Industry Company Ltd.
Shantou Wanya Foods Fty. Co., Ltd.
Shantou Yuexing Enterprise Co.
Shenzen Allied Aquatic Produce Development Ltd.
Shenzhen Yudayuan Trade Ltd.
Thai Royal Frozen Food Zhanjiang Co., Ltd.
Xiamen Granda Import & Export Co., Ltd.
Yancheng Hi-king Agriculture Developing Co., Ltd.
Yanfeng Aquatic Product Foodstuff
Yangjiang Anyang Food Co., Ltd.
Yangjiang City Yelin Hoi Tat Quick Frozen Seafood Co., Ltd.
Yangjiang Wanshida Seafood Co., Ltd.
Yelin Enterprise Co., Ltd.
Zhangzhou Xinwanya Aquatic Product
Zhangzhou Yanfeng Aquatic Product
Zhanjiang Evergreen Aquatic Product Science and Technology Co., Ltd.
Zhanjiang Fuchang Aquatic Products Co., Ltd.
Zhanjiang Go Harvest Aquatic Products Co., Ltd.
Zhanjiang Haizhou Aquatic Product Co. Ltd.
Zhanjiang Hengrun Aquatic Co, Ltd.
Zhanjiang Jinguo Marine Foods Co., Ltd.
Zhanjiang Join Wealth Aquatic Products Co., Ltd.
Zhanjiang Longwei Aquatic Products Industry Co., Ltd.
Zhanjiang Newpro Foods Co., Ltd.
Zhanjiang Rainbow Aquatic Development
Zhanjiang Regal Integrated Marine Resources Co., Ltd.
Zhanjiang Universal Seafood Corp.
Zhejiang Daishan Baofa Aquatic Products Co., Ltd.
Zhejiang Xinwang Foodstuffs Ltd.
Zhejiang Zhoufu Food Co., Ltd.
Zhoushan Corporation
Zhoushan Haiwang Seafood Co., Ltd.
Small Diameter Graphite Electrodes,⁹ A-570-929 | 2/1/11-1/31/12
5-Continent Imp. & Exp. Co., Ltd.
Acclcarbon Co., Ltd.
Allied Carbon (China) Co., Limited
Anssen Metallurgy Group Co., Ltd.
AMGL
Apex Maritime (Dalian) Co., Ltd.
Asahi Fine Carbon (Dalian) Co., Ltd.
Beijing Fangda Carbon Tech Co., Ltd.
Beijing Xinchengze Inc.
Beijing Xincheng Sci-Tech. Development Inc.
Brilliant Charter Limited
Chang Cheng Chang Electrode Co., Ltd.
Chengdelh Carbonaceous Elements Factory
Chengdu Jia Tang Corp.
Chengdu Rongguang Carbon Co., Ltd.
China Industrial Mineral & Metals Group
China Shaanxi Richbond Imp. & Exp. Industrial Corp. Ltd.
China Xingyong Carbon Co., Ltd.
CIMM Group Co., Ltd.
Dalian Carbon & Graphite Corporation
Dalian Hongrui Carbon Co., Ltd.
Dalian Honest International Trade Co., Ltd.
Dalian Horton International Trading Co., Ltd.
Dalian LST Metallurgy Co., Ltd.
Dalian Shuangji Co., Ltd.
Dalian Thrive Metallurgy Imp. & Exp. Co., Ltd.
Datong Carbon
Datong Carbon Plant
Datong Xincheng Carbon Co., Ltd.
Dechang Shida Carbon Co., Ltd.
De Well Container Shipping Corp.
Dewell Group
Dignity Success Investment Trading Co., Ltd.
Double Dragon Metals and Mineral Tools Co., Ltd.
Fangda Carbon New Material Co., Ltd
Fangda Lanzhou Carbon Joint Stock Company Co. Ltd.
Foset Co., Ltd.
Fushun Carbon Co., Ltd.
Fushun Jinly Petrochemical Carbon Co., Ltd.
Fushun Orient Carbon Co., Ltd.
GES (China) Co., Ltd.
Guangdong Highsun Yongye (Group) Co., Ltd.
Guanghan Shida Carbon Co., Ltd.
Haimen Shuguang Carbon Industry Co., Ltd.
Handan Hanbo Material Co., Ltd.
Hebei Long Great Wall Electrode Co., Ltd.
Hefei Carbon Co., Ltd.
Heilongjiang Xinyuan Carbon Products Co., Ltd.
Heilongjiang Xinyuan Metacarbon Company, Ltd.
Henan Sanli Carbon Products Co., Ltd.
Hopes (Beijing) International Co., Ltd.
Hunan Mec Machinery and Electronics Imp. & Exp. Corp.
Hunan Yinguang Carbon Factory Co., Ltd.
Inner Mongolia QingShan Special Graphite and Carbon Co., Ltd.
Inner Mongolia Xinghe County Hongyuan Electrical Carbon Factory
Jiang Long Carbon
Jiangsu Yafei Carbon Co., Ltd.
Jiaozuo Zhongzhou Carbon Products Co., Ltd.
Jichun International Trade Co., Ltd. of Jilin Province
Jiexiu Juyuan Carbon Co., Ltd.
Jiexiu Ju-Yuan & Coaly Co., Ltd.
Jilin Carbon Graphite Material Co., Ltd.
Jilin Carbon Import and Export Company
Jilin Songjiang Carbon Co Ltd.
Jinneng Group Co., Ltd.
Jinyu Thermo-Electric Material Co., Ltd.
Kaifeng Carbon Company Ltd.
KASY Logistics (Tianjin) Co., Ltd.
Kimwan New Carbon Technology and Development Co., Ltd.
Kingstone Industrial Group Ltd.
L & T Group Co., Ltd.
Laishui Long Great Wall Electrode Co. Ltd.
Lanzhou Carbon Co., Ltd.
Lanzhou Carbon Import & Export Corp.
Lanzhou Hailong Technology
Lanzhou Ruixin Industrial Material Co., Ltd.
LH Carbon Factory of Chengde
Lianxing Carbon Qinghai Co., Ltd.
Lianxing Carbon Science Institute
Lianxing Carbon (Shandong) Co., Ltd.
Lianyungang Jinli Carbon Co., Ltd.
Liaoyang Carbon Co. Ltd.
Linghai Hongfeng Carbon Products Co., Ltd.
Linyi County Lubei Carbon Co., Ltd.
Maoming Yongye (Group) Co., Ltd.
MBI Beijing International Trade Co., Ltd.
Nantong Dongjin New Energy Co., Ltd.
Nantong Falter New Energy Co., Ltd.
Nantong River-East Carbon Co., Ltd.
Nantong River-East Carbon Joint Stock Co., Ltd.
Nantong Yangtze Carbon Corp. Ltd.
Orient (Dalian) Carbon Resources Developing Co., Ltd.
Orient Star Transport International, Ltd.
Peixian Longxiang Foreign Trade Co. Ltd.
Qingdao Grand Graphite Products Co., Ltd.
Qingdao Haosheng Metals Imp. & Exp. Co., Ltd.
Quingdao Haosheng Metals & Minerals Imp. & Exp. Co., Ltd.
Qingdao Liyikun Carbon Development Co., Ltd.
Qingdao Likun Graphite Co., Ltd.
Qingdao Ruizhen Carbon Co., Ltd.
Ray Group Ltd.
Rex International Forwarding Co., Ltd.
Rt Carbon Co., Ltd.
Ruitong Carbon Co., Ltd.
Shandong Basan Carbon Plant
Shandong Zibo Continent Carbon Factory
Shanghai Carbon International Trade Co., Ltd.
Shanghai GC Co., Ltd.
Shanghai Jinneng International Trade Co., Ltd.
Shanghai P.W. International Ltd.
Shanghai Shen-Tech Graphite Material Co., Ltd.
Shanghai Topstate International Trading Co., Ltd.
Shanxi Datong Energy Development Co., Ltd.
Shanxi Foset Carbon Co. Ltd.
Shanxi Jiexiu Import and Export Co., Ltd.
Shanxi Jinneng Group Co., Ltd.
Shanxi Yunheng Graphite Electrode Co., Ltd.
Shenyang Jinli Metals & Minerals Imp. & Exp. Co., Ltd.
Shida Carbon Group
Shijaizhuang Carbon Co., Ltd.
Shijiazhuang Huanan Carbon Factory
Sichuan 5-Continent Imp. & Exp. Co., Ltd.
Sichuan Shida Trading Co., Ltd.
Sichuan GMT International Inc.
Sichuan Guanghan Shida Carbon Co., Ltd.
Sinicway International Logistics Ltd.
Sinosteel Anhui Co., Ltd.
Sinosteel Jilin Carbon Co., Ltd.
Sinosteel Jilin Carbon Imp. & Exp. Co., Ltd.
Sinosteel Sichuan Co., Ltd.
SMMC Group Co., Ltd.
Sure Mega (Hong Kong) Ltd.
Tangshan Kimwan Special Carbon & Graphite Co., Ltd.
Tengchong Carbon Co., Ltd.
Tianjin (Teda) Iron & Steel Trade Co., Ltd.
Tianjin Kimwan Carbon Technology and Development Co., Ltd.
Tianjin Yue Yang Industrial & Trading Co., Ltd.
Tianzhen Jintian Graphite Electrodes Co., Ltd.
Tielong (Chengdu) Carbon Co., Ltd.
UK Carbon & Graphite
United Carbon Ltd.
United Trade Resources, Inc.
Weifang Lianxing Carbon Co., Ltd.
World Trade Metals & Minerals Co., Ltd.
XC Carbon Group
Xinghe County Muzi Carbon Co., Ltd.
Xinghe Xinyuan Carbon Products Co., Ltd.
Xinyuan Carbon Co., Ltd.
Xuanhua Hongli Refractory and Mineral Company
Xuchang Minmetals & Industry Co., Ltd.
Xuzhou Carbon Co., Ltd.
Xuzhou Electrode Factory
Xuzhou Jianglong Carbon Manufacture Co., Ltd.
Yangzhou Qionghua Carbon Trading Ltd.
Yixing Huaxin Imp & Exp Co. Ltd.
Youth Industry Co., Ltd.
Zhengzhou Jinyu Thermo-Electric Material Co., Ltd.
Zibo Continent Carbon Factory
Zibo DuoCheng Trading Co., Ltd.
Zibo Lianxing Carbon Co., Ltd.
Zibo Wuzhou Tanshun Carbon Co., Ltd.
Uncovered Innerspring Units,¹⁰ A-570-928 | 2/1/11-1/31/12
Tai Wa Hong
SOCIALIST REPUBLIC OF VIETNAM: Frozen Warmwater Shrimp,¹¹ A-552-802 | 2/1/11-1/31/12
Bac Lieu Fisheries Company Limited, aka
Bac Lieu Fisheries Company Limited (“Bac Lieu”) aka
Bac Lieu Fisheries Joint Stock Company aka
Bac Lieu Fisheries Limited Company aka
Bac Lieu Fisheries Company Limited
Bentre Aquaproduct Import & Export Joint Stock Company
Bien Dong Seafood Co., Ltd.
Binh An Seafood Joint Stock Company
C.P. Vietnam Livestock Company Limited (“C.P. Vietnam”) aka
C.P. Vietnam Livestock Company Limited aka
C.P. Vietnam Livestock Corporation (“C.P. Vietnam”)
C.P. Vietnam Livestock Corporation
C.P. Vietnam Livestock Co., Ltd.
Minh Hai Sea Products Import Export Company (“Seaprimex Co”), aka
Ca Mau Seafood Joint Stock Company (“SEAPRIMEXCO”) aka
Seaprimexco Vietnam, aka
Seaprimexco.
Ca Mau Seafood Joint Stock Company (“Seaprimexco”)
Minh Hai Seaproducts Import Export Corporation
Seaprimexco.
Minh Hai Seaproducts Co Ltd. (Seaprimexco)
Ca Mau Frozen Seafood Processing Import-Export Corporation (“CAMIMEX”)
Cadovimex Seafood Import-Export and Processing Joint Stock Company (“CADOVIMEX-VIETNAM”) aka
Cai Doi Vam Seafood Import-Export Company (“Cadovimex”) aka
Cai Doi Vam Seafood aka
Cai Doi Vam Seafood Im-Ex Company (Cadovimex) aka
Cai Doi Vam Seafood Processing Factory aka
Caidoivam Seafood Company (Cadovimex) aka
Caidoivam Seafood Im-Ex Co.
Cafatex Fishery Joint Stock Corporation (“Cafatex Corp.”) aka
Cantho Animal Fisheries Product Processing Export Enterprise (Cafatex), aka
Cafatex, aka
Cafatex Vietnam, aka
Xi Nghiep Che Bien Thuy Suc San Xuat Kau Cantho, aka
Cas, aka
Cas Branch, aka
Cafatex Saigon, aka
Cafatex Fishery Joint Stock Corporation, aka
Cafatex Corporation, aka
Taydo Seafood Enterprise.
Cafatex Corp
Cafatex Fishery Joint Stock Corporation (“Cafatex Corp.”) and/or Cafatex Fishery Joint Stock Corporation (“CAFATEX CORP.”)
Cadovimex Seafood Import-Export and Processing Joint Stock Company (“CADOVIMEX-VIETNAM”) aka
Cai Doi Vam Seafood Import-Export Company (“Cadovimex”) aka
Cadovimex Seafood Import-Export and Processing Joint Stock Company (“CADOVIMEX”) and/or Cadovimex Seafood Import-Export and Processing Joint-Stock Company (“Cadovimex-Vietnam”)
Cadovimex II Seafood Import and Export and/or Cadovimex II Seafood Joint Processing Stock Company
Can Tho Agricultural and Animal Products Import Export Company (“CATACO”) aka
Can Tho Agricultural Products aka
CATACO aka
Can Tho Agricultural and Animal Products Imex Company
Can Tho Agricultural and Animal Product Import Export Company (“CATACO”) and/or Can Tho Agricultural and Animal Products Import Export Company (“CATACO”)
Cantho Agricultural & Animal Product Import Export Company (“CATACO”) and/or Can Tho Agricultural and Animal Products Import Export Company (“CATACO”)
Cantho Imp. Exp. Fishery Ltd.
Cam Ranh Seafoods Processing Enterprise Company (“Camranh Seafoods”) aka
Camranh Seafoods
Cam Ranh Seafoods Processing Enterprise Company (“Camranh Seafoods”) and/or Cam Ranh Seafoods Processing Enterprise PTE and/or Camramh Seafoods
Camranh Seafoods Processing Enterprise Pte. Aka
Cam Ranh Seafoods Processing Enterprise Processing Pte. aka
Cam Ranh Seafoods aka
Camranh Seafoods Processing & Exporting Company Limited and its branch factory, Branch of Camranh Seafoods Processing Enterprise Pte.
Quang Ninh Export Aquatic Products Processing Factory aka
Quang Ninh Seaproducts Factory
Can Tho Agricultural Products
Camau Frozen Seafood Processing Import Export Corporation (“CAMIMEX”) aka
Camimex aka
Camau Seafood Factory No. 4 aka
Camau Seafood Factory No. 5 aka
Camau Frozen Seafood Processing Import & Export aka
Camau Frozen Seafood Processing Import Export Corp. (CAMIMEX-FAC 25) aka
Frozen Factory No. 4
Camau Frozen Seafood Processing Import Export Corporation, or Camau Seafood Factory No. 4 (“CAMIMEX”) and/or Camau Frozen Seafood Processing Import Export Corporation (“CAMIMEX”)
Camau Frozen Seafood Processing Import & Export Co.
Camimex Factory 25
Coastal Fishery Development aka
Coastal Fisheries Development Corporation (“Cofidec”) aka
COFIDEC aka
Coastal Fisheries Development Corporation aka
Coastal Fisheries Development Co., aka
Coastal Fisheries Development Corp.
Coastal Fisheries Development Corporation (Cofidec) and/or Coastal Fisheries Development Corporation (“COFIDEC”)
Coastal Fisheries Development Corporation (Cofidec)
Cuulong Seaproducts Company (“Cuu Long Seapro”) aka
Cuu Long Seaproducts Limited (“Cuulong Seapro”) aka
Cuulong Seapro aka
Cuulong Seaproducts Company (“Cuulong Seapro”) aka
Cuu Long Seaproducts Company (“Cuu Long Seapro”) aka
Cuu Long Seaproducts Company aka
Cuu Long Seapro aka
Cuulong Seaproducts Company (“Cuu Long Seapro”) aka
Cuu Long Seaproducts Limited (Cuulong Seapro) aka
Cuulong Seapro aka
Cuulong Seaproduct Company
Cuulong Seaproducts Company (“Cuu Long Seapro”) and/or Cuulong Seaproducts Company (“Cuulong Seapro”) and/or Cuulong Seaprodex Co.
Can Tho Import Export Fishery Limited Company (“CAFISH”)
Danang Seaproducts Import Export Corporation (“Seaprodex Danang”) aka
Danang Seaproducts Import Export Corporation aka
Danang Seaproduct Import-Export Corporation aka
Danang Seaproducts Import Export aka
Tho Quang Seafood Processing & Export Company aka
Seaprodex Danang aka
Tho Quang Seafood Processing and Export Company aka
Tho Quang, aka
Tho Quang Co
Danang Seaproducts Import Export Corporation (“Seaprodex Danang”) and/or Danang Seaproducts Import Export Corporation (and its affiliates) (“Seaprodex Danang”)
Grobest & I-Mei Industrial Vietnam, aka
Grobest, aka
Grobest & I-Mei Industrial (Vietnam) Co., Ltd.
Grobest & I-Mei Industry Vietnam
Gallant Ocean (Vietnam) Co., Ltd. (“Gallant Ocean Vietnam”)
Gallant Ocean (Vietnam) Co. Ltd.
Gallant Ocean (Quang Ngai), Ltd.
Investment Commerce Fisheries Corporation (“Incomfish”) aka
Incomfish aka
Investment Commerce Fisheries Corp., aka
Incomfish Corp., aka
Incomfish Corporation aka
Investment Commerce Fisheries aka
Investment Commerce Fisheries Corporation
Investment Commerce Fisheries Corporation (“Incomfish”) and/or Investment Commerce Fisheries Corporation (“INCOMFISH”)
Kim Anh Company Limited (“Kim Anh”)
Kim Anh Co., Ltd.
Luan Vo Fishery Co., Ltd. Lucky Shing Co., Ltd.
Minh Phat Seafood Co., Ltd aka
Minh Phat Seafood aka
Minh Phu Seafood Export Import Corporation (and affiliates Minh Qui Seafood Co. Ltd. and Minh Phat Seafood Co., Ltd.) aka
Minh Phu Seafood Corp. aka
Minh Phu Seafood Corporation aka
Minh Qui Seafood aka
Minh Qui Seafood Co., Ltd.
Minh Phat Seafood and/or Minh Phat Seafood Co., Ltd.
Minh Phu Seafood Export Import Corporation (and affiliates Minh Qui Seafood Co., Ltd. and Minh Phat Seafood Co., Ltd.) and/or Minh Phu Seafood Export Import Corporation (and affiliates Minh Qui Seafood Co., Ltd. and Minh Phat Seafood Co., Ltd.) (collectively “Minh Phu Group”)
Minh Phu Seafood Pte
Mp Consol Co., Ltd.
Minh Hai Jostoco aka
Minh Hai Export Frozen Seafood Processing Joint-Stock Company (“Minh Hai Jostoco”) aka
Minh Hai Export Frozen Seafood Processing Joint-Stock Company aka
Minh Hai Joint Stock Seafood Processing Joint-Stock Company aka
Minh Hai Export Frozen Seafood Processing Joint-Stock Co., aka
Minh-Hai Export Frozen Seafood Processing Joint-Stock Company
Minh Hai Export Frozen Seafood Processing Joint-Stock Company (“Minh Hai Jostoco”) and/or Minh Hai Export Frozen Seafood Processing Joint-Stock Company (“Minh Hai Jotosco”)
Minh Hai Joint-Stock Seafoods Processing Company (“Seaprodex Minh Hai”) aka
Sea Minh Hai aka
Minh Hai Joint-Stock Seafoods Processing Company aka
Seaprodex Minh Hai aka
Seaprodex Min Hai aka
Seaprodex Minh Hai (Minh Hai Joint Stock Seafoods Processing Co.) aka
Seaprodex Minh Hai Factory aka
Seaprodex Minh Hai Factory No. 69 aka
Seaprodex Minh Hai Workshop 1 aka
Seaprodex Minh Hai-Factory No. 78 aka
Minh Hai Joint-Stock Seafoods Processing Company (“Seaprodex Minh Hai”) and/or Minh Hai Joint-Stock Seafoods Processing Company (“Sea Minh Hai”)
Minh Hai Sea Products Import Export Company (“Seaprimex Co”), aka
Ca Mau Seafood Joint Stock Company (“SEAPRIMEXCO”) aka
Seaprimexco Vietnam, aka
Seaprimexco.
Ca Mau Seafood Joint Stock Company (“Seaprimexco”)
Minh Hai Seaproducts Import Export Corporation
Seaprimexco.
Minh Hai Seaproducts Co Ltd. (Seaprimexco)
Nha Trang Seaproduct Company (“Nha Trang Seafoods”) aka
NT Seafoods Corporation Nhatrang Seafoods-F.89 Joint Stock Company
NTSF Seafoods Joint Stock Company
(Collectively “Nha Trang Seafood Group”)
Nha Trang Seafoods aka
Nha Trang Seaproducts Company Nha Trang Seafoods
Nha Trang Seaproduct Company (“Nha Trang Seafoods”) and/or Nha Trang Seaproduct Company (“NHA TRANG SEAFOODS”)
Nhat Duc Co., Ltd.
Nha Trang Fisheries Joint Stock Company (“Nha Trang Fisco”) aka
Nha Trang Fisheries Joint Stock Company aka
Nhatrang Fisheries Joint Stock Company aka
Nha Trang Fisco aka
Nhatrang Fisco aka
Nha Trang Fisheries Joint Stock Company (“Nha Trang Fisco”) aka
Nha Trang Fisheries, Joint Stock
Nha Trang Fisheries Joint Stock Company (“Nha Trang Fisco”) and/or Nha Trang Fisheries Joint Stock Company (“Nha Trang FISCO”)
Nhat Du Co., Ltd.
Ngoc Sinh Private Enterprise aka
Ngoc Sinh Seafoods aka
Ngoc Sinh Seafoods Processing and Trading Enterprise aka
Ngoc Sinh Fisheries aka
Ngoc Sinh Private Enterprises aka
Ngoc Sinh Seafoods Processing and Trading Enterprises aka
Ngoc Sinh aka
Ngoc Sinh Seafood Processing Company aka
Ngoc Sinh Seafoods (Private Enterprise)
Ngoc Sinh Seafood Trading & Processing Enterprise
Ngoc Sinh Seafood Trading & Processing
Phu Cuong Seafood Processing and Import-Export Co., Ltd.
Phu Cuong Jostoco Seafood Corporation, aka Phu Cuoung Seafood Processing & Import-Export Co., Ltd.
Phuong Nam Co., Ltd. (“Phuong Nam”) aka
Western Seafood Processing and Exporting Factory (“Western Seafood”)
Phuong Nam Co. Ltd. and/or Phuong Nam Foodstuff Corp.
Phu Cuong Seafood Processing And Import Export Company Limited
Sao Ta Foods Joint Stock Company (“Fimex VN”) aka
Sao Ta Foods Joint Stock Company aka
Fimex VN aka
Sao Ta Seafood Factory aka
Saota Seafood Factory
Sao Ta Foods Joint Stock Company (“Fimex VN”) and/or Sao Ta Foods Joint Stock Company (“FIMEX”)
Soc Trang Aquatic Products and General Import Export Company (“Stapimex”) aka
Soc Trang Seafood Joint Stock Company (“Stapimex”) aka
Soc Trang Aquatic Products and General Import Export Company aka Stapimex aka
Soc Trang Aquatic Products and General Import Export Company-(Stapimex) aka
Stapimex Soc Trans Aquatic Products and General Import Export Company aka Stapmex
Soc Trang Aquatic Products and General Import Export Company (“Stapimex”) and/or Soc Trang Aquatic Products and General Import-Export Company (“STAPIMEX”) and/or Soc Trang Aquatic Seafood Joint-Stock Company
Trang Corporation
Thuan Phuoc Seafoods and Trading Corporation aka
Frozen Seafoods Factory No. 32 aka
Seafoods and Foodstuff Factory aka
My Son Seafoods Factory
Frozen Seafoods Factory No. 32 and/or Frozen Seafoods Fty No. 32
Gn Foods
UTXI Aquatic Products Processing Company aka
UT XI Aquatic Products Processing Company aka
UT-XI Aquatic Products Processing Company aka
UTXI aka
UTXI Co. Ltd., aka
Khanh Loi Seafood Factory aka
Hoang Phuong Seafood Factory aka
UTXI Aquatic Products Processing Corporation (“UTXICO”)
Viet Hai Seafood Co., Ltd. aka
Vietnam Fish One Co., Ltd. (“Fish One”)
Vietnam Fish One Co., Ltd.
Viet Foods Co., Ltd. aka
Nam Hai Foodstuff and Export Company Ltd
Vinh Loi Import Export Company (“Vimexco”), aka
Vinh Loi Import Export Company (“VIMEX”), aka
VIMEXCO aka
VIMEX aka
Vinh Loi Import/Export Co., aka
Vinhloi Import Export Company aka
Vinh Loi Import-Export Company
Vinh Loi Import Export Company (“Vimexco”) and/or Vinh Loi Import Export Company (“VIMEX”)
Amanda Foods (Vietnam) Ltd.
Amanda Seafood Co., Ltd.
Agrex Saigon
Anvifish Joint Stock Co.
BIM Seafood Joint Stock Company
Can Tho Import Export Seafood Joint Stock Company (CASEAMEX)
Can Tho Imp. Exp. Fishery Ltd.
Cau Tre Enterprise (C.T.E.)
CL Fish Co., Ltd. (Cuu Long Fish Company)
Cautre Export Goods Processing Joint Stock Company
Cong Ty Tnhh Thong Thuan (Thong Thuan)
D & N Foods Processing (Danang Company Ltd.)
Duy Dai Corporation
Hai Thanh Food Company Ltd.
Hai Viet Corporation (“HAVICO”)
Hai Vuong Co., Ltd.
Hoang Hai Company Ltd.
Hua Heong Food Industries Vietnam Co. Ltd.
Hoa Phat Aquatic Products Processing And Trading Service Co., Ltd.
Interfood Shareholding Co.
Kien Long Seafoods Co. Ltd.
Minh Chau Imp. Exp. Seafood Processing Co., Ltd.
Ngoc Chau Co., Ltd. and/or Ngoc Chau Seafood Processing Company
Ngoc Tri Seafood Joint Stock Company Ngoc Tri Seafood Company
Quoc Viet Seaproducts Processing Trading Import and Export Co., Ltd.
Quoc Viet Seaproducts Processing Trading and Import-Export Co., Ltd.
S.R.V. Freight Services Co., Ltd.
Sea Product
Seavina Joint Stock Company (“Seavina”)
Sustainable Seafood
Tan Thanh Loi Frozen Food Co., Ltd.
Thanh Doan Seaproducts Import & Export Processing Joint-Stock Company (THADIMEXCO)
Thanh Hung Frozen Seafood Processing Import Export Co., Ltd.
Thanh Tri Seafood Processing Co. Ltd.
Tho Quang Seafood Processing and Export Company
Thuan Phuoc Seafoods and Trading Corporation and/or Thuan Phuoc Seafoods and Trading Corporation (and its affiliates)
Thuan Phuoc Seafoods & Trading Corporation and/or Thuan Phuoc Seafoods and Trading Corporation (and its affiliates)
Tien Tien Garment Joint Stock Company
Tithi Co., Ltd.
Viet Cuong Seafood Processing Import Export Joint-Stock Company
Viet Cuong Seafood Processing Import Export
Viet I-Mei Frozen Foods Co., Ltd.
Vietnam Clean Seafood Corporation (VINA Cleanfood)
Vietnam Northern Viking Technologies Co. Ltd.
Vinatex Danang
Vinh Hoan Corp.
Countervailing Duty Proceedings
None.
Suspension Agreements
None.
Deferral of Initiation of Administrative Review
JAPAN: Stainless Steel Bar,¹² A-588-833 | 2/1/11-1/31/12
Misumi Corporation

³ The initiation of the administrative review for the above referenced case will be published in a separate initiation notice.

⁴ The initiation of the administrative review for the above referenced case will be published in a separate initiation notice.

⁵ Pursuant to 19 CFR 351.213 (c) the Department received a request to defer the administrative review covering the period 02/01/2010—01/31/2011 with respect to Misumi Corporation for one year. We stated in the initiation notice that we will initiate the administrative review with respect to Misumi Corporation in the month immediately following the next anniversary month. See Initiation of Antidumping Duty Administrative Reviews, Requests for Revocation in Part, and Deferral of Administrative Review, 76 FR 17825 (March 31, 2011).

⁶ The initiation of the administrative review for the above referenced case will be published in a separate initiation notice.

⁷ If one of the above-named companies do not qualify for a separate rate, all other exporters of Certain Preserved Mushrooms from the PRC who have not qualified for a separate rate are deemed to be covered by this review as part of the single PRC entity of which the named exporters are a part.

⁸ If one of the above-named companies do not qualify for a separate rate, all other exporters of Certain Frozen Warmwater Shrimp from the PRC who have not qualified for a separate rate are deemed to be covered by this review as part of the single PRC entity of which the named exporters are a part.

⁹ If one of the above-named companies do not qualify for a separate rate, all other exporters of Small Diameter Graphite Electrodes from the PRC who have not qualified for a separate rate are deemed to be covered by this review as part of the single PRC entity of which the named exporters are a part.

¹⁰ If one of the above-named companies do not qualify for a separate rate, all other exporters of Uncovered Innerspring Units from the PRC who have not qualified for a separate rate are deemed to be covered by this review as part of the single PRC entity of which the named exporters are a part.

¹¹ If one of the above-named companies do not qualify for a separate rate, all other exporters of Certain Frozen Warmwater Shrimp from the Socialist Republic of Vietnam who have not qualified for a separate rate are deemed to be covered by this review as part of the single Vietnam entity of which the named exporters are a part.

¹² Pursuant to 19 CFR 351.213(c) the Department received a request to defer the administrative review with respect to Misumi Corporation for one year. The Department did not receive any objections to the deferral within 15 days after the end of the anniversary month. As such, we will initiate the administrative review with respect to Misumi Corporation in the month immediately following the next anniversary month.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional-measures “gap” period, of the order, if such a gap period is applicable to the period of review.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that the meet the requirements of these procedures (e.g., the filing of separate letters of appearance as discussed at 19 CFR 351.103(d)).

Any party submitting factual information in an antidumping duty or countervailing duty proceeding must certify to the accuracy and completeness of that information. See section 782(b) of the Act. Parties are hereby reminded that revised certification requirements are in effect for company/government officials as well as their representatives in all segments of any antidumping duty or countervailing duty proceedings initiated on or after March 14, 2011. See Certification of Factual Information to Import Administration During Antidumping and Countervailing Duty Proceedings: Interim Final Rule, 76 FR 7491 (February 10, 2011) (“Interim Final Rule”), amending 19 CFR 351.303(g)(1) and (2). The formats for the revised certifications are provided at the end of the Interim Final Rule. The Department intends to reject factual submissions in any proceeding segments initiated on or after March 14, 2011 if the submitting party does not comply with the revised certification requirements.

These initiations and this notice are in accordance with section 751(a) of the Act (19 U.S.C. 1675(a)) and 19 CFR 351.221(c)(1)(i).

Dated: March 27, 2012.
Christian Marsh,
Deputy Assistant Secretary for Antidumping and Countervailing Duty Operations.

[FR Doc. 2012-7723 Filed 3-29-12; 8:45 am]

BILLING CODE 3510-DS-P